DEPARTMENT OF ENERGY

Federal Energy Regulatory Commission

Combined Notice of Filings #1

November 8, 2005.

Take notice that the Commission received the following electric rate filings.

Docket Numbers: ER06-100-000.

Applicants: Hunlock Creek Energy Ventures.

Description: Hunlock Creek Energy Ventures submits Rate Schedule FERC No. 2 which specifies the revenue requirement for providing cost-based Reactive Support and Voltage Control form Generation Source Service.

Filed Date: 11/01/2005.

Accession Number: 20051103-0086.

Comment Date: 5 p.m. eastern time on Tuesday, November 22, 2005.

Docket Numbers: ER06-116-000.

Applicants: Entergy Services, Inc.

Description: Entergy Services, Inc on behalf of Entergy Gulf States, Inc submits the rate schedules providing for cost-based power sales for full requirements service to Caldwell, Newton, and Kirbyville, TX.

Filed Date: 11/01/2005.

Accession Number: 20051104-0102.

Comment Date: 5 p.m. eastern time on Tuesday, November 22, 2005.

Docket Numbers: ER06-117-000.

Applicants: FirstEnergy Solutions Corp.

Description: FirstEnergy Solutions Corp submits Power Supply Agreements for the sale of capacity and energy by Solutions to certain affiliated electric utility companies.

Filed Date: 11/01/2005.

Accession Number: 20051104-0001.

Comment Date: 5 p.m. eastern time on Tuesday, November 22, 2005.

Docket Numbers: ER06-118-000.

Applicants: Devon Power LLC, Middletown Power LL, and Montville Power LLC.

Description: Devon Power, LLC et al submit FERC Electric Tariff Original Volume No. 3 which consists of unexecuted Cost of Service Agreements.

Filed Date: 11/01/2005.

Accession Number: 20051104-0295.

Comment Date: 5 p.m. eastern time on Tuesday, November 22, 2005.

Docket Numbers: ER06-119-000.

Applicants: San Diego Gas & Electric Company.

Description: San Diego Gas & Electric Co submits its forecast revenue requirement and proposed rates for the service year 2006 Reliability Services costs.

Filed Date: 11/01/2005.

Accession Number: 20051104-0323.

Comment Date: 5 p.m. eastern time on Tuesday, November 22, 2005.

Docket Numbers: ER06-120-000.

Applicants: Duke Power, Division of Duke Energy Corp.

Description: Duke Power, a division of Duke Energy Corp submits the Catawba Nuclear Station Joint Ownership Support Agreement and the McGuire Reliability Exchange Agreement with Piedmont Municipal Power Agency.

Filed Date: 11/01/2005.

Accession Number: 20051104-0003.

Comment Date: 5 p.m. eastern time on Tuesday, November 22, 2005.

Docket Numbers: ER06-121-000.

Applicants: ISO New England Inc. and Bangor Hydro-Electric Company.

Description: ISO New England Inc and Bangor Hydro submits an executed Standard Large Generator Interconnection Agreement by and among ISO-NE, Bangor Hydro and Georgia Pacific.

Filed Date: 11/01/2005.

Accession Number: 20051104-0101.

Comment Date: 5 p.m. eastern time on Tuesday, November 22, 2005.

Docket Numbers: ER06-123-000.

Applicants: Southern California Edison Company.

Description: Southern California Edison Co. submits for filing of the revision to Transmission Owner Tariff, FERC Electric Tariff, Second Revised Volume No. 6.

Filed Date: 11/01/2005.

Accession Number: 20051104-0002.

Comment Date: 5 p.m. eastern time on Tuesday, November 22, 2005.

Docket Numbers: ER06-124-000.

Applicants: Kentucky Power Company.

Description: Kentucky Power Co submits a notice of cancellation of its Service Agreement No. 1 under FERC Electric Tariff, Original Volume No. 2.

Filed Date: 11/01/2005.

Accession Number: 20051103-0140.

Comment Date: 5 p.m. eastern time on Tuesday, November 22, 2005.

Docket Numbers: ER06-126-000.

Applicants: Ohio Edison Company.

Description: Ohio Edison Company submits a notice of cancellation of a Power Interchange Agreement with Monongahela Power Co et al dated as of 3/18/87.

Filed Date: 11/01/2005.

Accession Number: 20051103-0137.

Comment Date: 5 p.m. eastern time on Tuesday, November 22, 2005.

Docket Numbers: ER06-127-000.

Applicants: FirstEnergy Service Company.

Description: FirstEnergy Service Co submits a notice of cancellation of the Master Facility Lease dated as of 1/1/01 with FirstEnergy Generation Corp and FirstEnergy Operating Companies.

Filed Date: 11/01/2005.

Accession Number: 20051103-0141.

Comment Date: 5 p.m. eastern time on Tuesday, November 22, 2005.

Docket Numbers: ER06-128-000.

Applicants: Ohio Edison Company.

Description: Ohio Edison Co submits a notice of cancellation of a Power Supply Agreement with Potomac Electric Power Co dated as of 3/18/87.

Filed Date: 11/01/2005.

Accession Number: 20051103-0135.

Comment Date: 5 p.m. eastern time on Tuesday, November 22, 2005.

Docket Numbers: ER06-130-000.

Applicants: PJM Interconnection, L.L.C.

Description: PJM Interconnection, LLC submits Fifth Revised Sheet No. et al to FERC Electric Tariff Sixth Revised Volume No. 1 to effectuate a change by a transmission customer receiving network integration transmission service.

Filed Date: 11/01/2005.

Accession Number: 20051103-0138.

Comment Date: 5 p.m. eastern time on Tuesday, November 22, 2005.

Docket Numbers: ER06-131-000.

Applicants: Arizona Public Service Company.

Description: Arizona Public Service Co submits Original Sheet Nos. 243A and 348A to FERC Electric Tariff, Thirteenth Revised Volume No. 2 in response to FERC's Order 661.

Filed Date: 11/01/2005.

Accession Number: 20051103-0139.

Comment Date: 5 p.m. eastern time on Tuesday, November 22, 2005.

Docket Numbers: ER06-133-000.

Applicants: PJM Interconnection, L.L.C.

Description: PJM Interconnecton LLC submits an unexecuted Network Integration Transmission Service Agreement with the City of Geneva, IL and amendment to the existing Interconnection Service Agreement.

Filed Date: 11/01/2005.

Accession Number: 20051103-0194.

Comment Date: 5 p.m. eastern time on Tuesday, November 22, 2005.

Docket Numbers: ER06-135-000.

Applicants: New York State Electric & Gas Corporation.

Description: New York State Electric & Gas Corp submits supplement to FERC Rate Schedule No. 194—Facilities Agreement with the Steuben Rural Electric Cooperative, Inc.

Filed Date: 11/01/2005.

Accession Number: 20051104-0263.

Comment Date: 5 p.m. eastern time on Tuesday, November 22, 2005.

Docket Numbers: ER06-136-000.

Applicants: New York State Electric & Gas Corp.

Description: New York State Electric & Gas Corp submits supplement to Rate Schedule FERC No. 226—Facilities Agreement with Otsego Electric Cooperative, Inc.

Filed Date: 11/01/2005.

Accession Number: 20051104-0264.

Comment Date: 5 p.m. eastern time on Tuesday, November 22, 2005.

Docket Numbers: ER06-137-000.

Applicants: New York State Electric & Gas Corp.

Description: New York State Electric & Gas Corp submits a supplement to FERC Rate Schedule No. 227—Facilities Agreement with Municipal Board of the Village of Bath.

Filed Date: 11/01/2005.

Accession Number: 20051104-0302.

Comment Date: 5 p.m. eastern time on Tuesday, November 22, 2005.

Docket Numbers: ER06-138-000.

Applicants: New York State Electric & Gas Corp.

Description: New York State Electric & Gas Corp submits a supplement to FERC Rate Schedule No. 228—Facilities Agreement with the Village of Groton.

Filed Date: 11/01/2005.

Accession Number: 20051104-0265.

Comment Date: 5 p.m. eastern time on Tuesday, November 22, 2005.

Docket Numbers: ER06-139-000.

Applicants: Inland Power & Light Company.

Description: Inland Power & Light Co advises that due to amendments of section 201(f) of the Federal Power Act, it is no longer a public utility and requests that Rate Schedule FERC Nos.1 & 2 be withdrawn.

Filed Date: 11/01/2005.

Accession Number: 20051104-0298.

Comment Date: 5 p.m. eastern time on Tuesday, November 22, 2005.

Docket Numbers: ER06-140-000.

Applicants: American Electric Power.

Description: American Electric Power on behalf of Indiana Michigan Power Co submits a Cost-Based Formula Rate Agreement for Baseload Electric Service between American Electric Power Service Corporation and the Indiana Municipal Power Agency.

Filed Date: 11/01/2005.

Accession Number: 20051104-0314.

Comment Date: 5 p.m. eastern time on Tuesday, November 22, 2005.

Docket Numbers: ER06-141-000.

Applicants: American Electric Power Service Company.

Description: American Electric Power Service Corp submits a proposed amendment to the System Integration Agreement among the indicated operating companies.

Filed Date: 11/01/2005.

Accession Number: 20051104-0266.

Comment Date: 5 p.m. eastern time on Tuesday, November 22, 2005.

Docket Numbers: ER06-143-000.

Applicants: Pepperell Realty LLC.

Description: Petition for acceptance of initial rate schedule, waivers and blanket authority submitted by Pepperell Realty LLC.

Filed Date: 11/01/2005.

Accession Number: 20051104-0270.

Comment Date: p.m. eastern time on Tuesday, November 22, 2005.

Docket Numbers: ER06-144-000.

Applicants: Progress Energy Service Company, LLC.

Description: Progress Energy Service Co, LLC on behalf of Carolina Power & Light Co dba Progress Energy Carolinas, Inc and Florida Power Corporation, submits revised tariff sheets adopting the Revised Transmission Loading Relief procedures by NERC, in compliance with FERC's 10/7/05 Order.

Filed Date: 11/01/2005.

Accession Number: 20051104-0317.

Comment Date: 5 p.m. eastern time on Tuesday, November 22, 2005.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-6278 Filed 11-14-05; 8:45 am]

BILLING CODE 6717-01-P